DEPARTMENT OF ENERGY

Federal Energy Regulatory Commission

[Project No. 12496-001]

Rugraw, Inc.; Notice of Preliminary Permit Application Accepted for Filing and Soliciting Comments, Motions To Intervene, and Competing Applications

January 11, 2010.

On December 17, 2009, Rugraw, Inc. filed an application for a preliminary permit, pursuant to section 4(f) of the Federal Power Act, proposing to study the feasibility of the Lassen Lodge Hydroelectric Project, which would be comprised of a single, 5.1 megawatt development on the South Fork Battle Creek. The proposed project would be located in Tehama County, California, near the unincorporated town of Mineral.

The proposed project would consist of the following facilities:

(1) An 80-feet-long, 5-feet-high diversion structure incorporating the existing natural features (large boulders, etc.) and grout; (2) a new reservoir with a proposed surface area of approximately 0.5 acre, with a storage capacity of approximately 2.5 acres, and with a normal water surface elevation of 4,315 feet mean sea level; (3) a 7,900-feet-long, 42-inch-diameter low pressure pipeline attached to an approximately 6,100-feet-long high pressure penstock; (4) a powerhouse containing a horizontal Pelton-type turbine/generator unit with an installed capacity of 5.1 megawatts; (5) a tailrace; (6) a proposed 60 KV-transmission line approximately 10 miles long; and (7) appurtenant facilities.

The proposed project would have an average annual generation of 23.9 gigawatt-hours.

Applicant Contact: Mr. Thomas Keegan; ECORP Consulting, Inc., 2525 Warren Drive, Rocklin, California 95677; phone: (916) 782-9100.

FERC Contact: Kenneth Hogan, 202-502-8434 or via e-mail at: Kenneth.Hogan@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12496) in the docket number field to access the document. For assistance, contact FERC Online Support.

Kimberly D. Bose,
Secretary.

[FR Doc. 2010-914 Filed 1-19-10; 8:45 am]

BILLING CODE 6717-01-P